OFFICE OF THE UNITED STATES TRADE REPRESENTATIVE

Notice of Meeting of the Industry Trade Advisory Committee on Small and Minority Business (ITAC-11)

AGENCY: Office of the United States Trade Representative.

ACTION: Notice of a Partially Opened Meeting.

SUMMARY: The Industry Trade Advisory Committee on Small and Minority Business (ITAC-11) will hold a meeting on Monday, September 14, 2009, from 9 a.m. to 3:30 p.m. The meeting will be closed to the public from 9 a.m. to 12 p.m., and opened to the public from 12 p.m. to 3:30 p.m.

DATES: The meeting is scheduled for September 14, 2009, unless otherwise notified.

ADDRESSES: The meeting will be held at the Ronald Reagan International Trade Center, Training Room A, 14th Street and Constitution Avenue, NW., Washington, DC.

FOR FURTHER INFORMATION CONTACT: Laura Hellstern, DFO for ITAC-11 at (202) 482-3222, Department of Commerce, 14th Street and Constitution Avenue, NW., Washington, DC 20230.

SUPPLEMENTARY INFORMATION: During the opened portion of the meeting the following agenda items will be considered.

• Congressional SME Initiative.

• Foreign Direct Investment.

• World Bank Opportunities for Small and Minority Business.

• Trade Promotion Coordinating Committee Updates—ITA, SBA, OPIC, Exim Bank.

• Export Controls.

Lisa A. Garcia,
Acting Assistant U.S. Trade Representative for Intergovernmental Affairs and Public Liaison.

[FR Doc. E9-20118 Filed 8-20-09; 8:45 am]

BILLING CODE 3190-W9-P